DEPARTMENT OF THE TREASURY

Bureau of Alcohol, Tobacco and Firearms

27 CFR Part 9

[Notice No. 966; re: Notice Nos. 960 and 961]

RIN 1512-AC76 and 1512-AC66

Red Hill (Oregon) Viticultural Area (2001R-88P); Red Hills (California) Viticultural Area (2001R-330P)

AGENCY: Bureau of Alcohol, Tobacco and Firearms (ATF), Treasury.

ACTION: Notices of proposed rulemaking (NPRMs); reopening of comment periods.

SUMMARY: We are reopening the comment periods for NPRMs No. 960 and No. 961. Both NPRMs were published in the Federal Register on October 30, 2002. The proposed rules, if approved, would add Red Hill (Oregon) and Red Hills (California) as approved American viticultural areas and amend 27 CFR part 9. We are acting on a request to extend the comment period in order to provide sufficient time for all interested parties to respond to the issues raised in the notice.

DATES: Written comments must be received on or before March 17, 2003.

ADDRESSES: You may send comments to any of the following addresses:

• Chief, Regulations Division, Bureau of Alcohol, Tobacco and Firearms, P.O. Box 50221, Washington, DC 20091-0221 (Attn: Notice No. 960 or Attn: Notice No. 961);

• 202-927-8525 (facsimile);

• nprm@atfhq.atf.treas.gov (e-mail);

• http://www.atf.treas.gov (online). A comment form is available with each of the online copies of these notices. At this site, select “Regulations,” then “Notices of proposed rulemaking (Alcohol).” Finally, select “Send comments via e-mail” under the appropriate notice number.

You may view copies of the NPRMs, the request for extension, and any comments received on the notices by appointment at the ATF Reference Library, Room 6480, 650 Massachusetts Avenue, NW., Washington, DC 20226, or at http://www.atf.treas.gov with an online copy of Notice No. 960 and/or Notice No. 961.

FOR FURTHER INFORMATION CONTACT: Tim DeVanney, Regulations Division, Bureau of Alcohol, Tobacco & Firearms, 650 Massachusetts Avenue, NW., Washington, DC 20226; telephone 202-927-8210; e-mail TPDevanney@atfhq.atf.treas.gov.

SUPPLEMENTARY INFORMATION:

Background

On October 30, 2002, ATF published two NPRMs (Notice No. 960, 67 FR 66079, and Notice No. 961, 67 FR 66083) to establish Red Hill (Oregon) and Red Hills (California), respectively, as American viticultural areas. The comment periods ended on December 30, 2002. Before the close of the comment periods, ATF received a request from Mr. Sean Carlton of Archery Summit, a winery in Dayton, Oregon, to extend the comment periods for an additional 60 days. Mr. Carlton requested the extension to allow more time to study the petitions and research the respective areas.

In consideration of the above, we find that a reopening of the comment periods is warranted.

Public Participation

See the Public Participation section of either Notice No. 960, or Notice No. 961 for detailed instructions on submitting and reviewing comments. Comments received on or before the new closing dates will be carefully considered.

We will not recognize any submitted material as confidential, and comments may be disclosed to the public. Any material that the commenter considers confidential or inappropriate for disclosure to the public should not be included in the comments. The name of the person submitting a comment is not exempt from disclosure.

Drafting Information

Tim DeVanney of the Regulations Division, Bureau of Alcohol, Tobacco and Firearms, drafted this notice.

List of Subjects in 27 CFR Part 9

Wine.

Authority and Issuance

Both Notice No. 960 and Notice No. 961 were issued under the authority of 27 U.S.C. 205.

Signed: January 8, 2003.
Bradley A. Buckles,
Director.

[FR Doc. 03-847 Filed 1-15-03; 8:45 am]

BILLING CODE 4810-31-P